DEPARTMENT OF TRANSPORTATION

Federal Motor Carrier Safety Administration

[Docket No. FMCSA-2025-0125]

Hours of Service; National Propane Gas Association; Application for Exemption; Extension of Comment Period

AGENCY: Federal Motor Carrier Safety Administration (FMCSA), Department of Transportation (DOT).

ACTION: National Propane Gas Association; application for exemption; extension of comment period.

SUMMARY: FMCSA extends the comment period for its July 1, 2025, notice requesting public comment on the application from the National Propane Gas Association (NPGA) for an exemption from various hours-of-service (HOS) requirements between December 15 and March 15 each year to enable the propane industry to better prepare and respond to emergencies threatening human health and safety during winter. The Agency finds it is appropriate to extend the comment period to provide interested parties additional time to submit their responses to the notice. Therefore, FMCSA extends the deadline for the submission of comments for 15 days.

DATES: The comment period for the notice published on July 1, 2025, at 90 FR 28854 is extended by 15 days. Comments must be received on or before August 15, 2025.

ADDRESSES: You may submit comments identified by Docket Number FMCSA-2025-0125 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2025-0125) for this notice. Note that DOT posts all comments received without change to www.regulations.gov, including any personal information included in a comment. Please see the Privacy Act heading below.

Privacy Act: In accordance with 49 U.S.C. 31315(b), DOT solicits comments from the public to better inform its processes. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Mr. Richard Clemente, FMCSA Driver and Carrier Operations Division; Office of Carrier, Driver and Vehicle Safety Standards; FMCSA, 1200 New Jersey Avenue SE, Washington, DC 20590-0001; 771-216-2436 or richard.clemente@dot.gov. If you have questions on viewing or submitting material to the docket, call Docket Operations at (202) 366-9826.

SUPPLEMENTARY INFORMATION:

I. Public Participation and Request for Comments

FMCSA encourages you to participate by submitting comments and related materials.

A. Submitting Comments

If you submit a comment, please include the docket number for this notice (FMCSA-2025-0125), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/document/FMCSA-2025-0125-0002 and click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov insert FMCSA-2025-0125 in the keyword box, select the document tab and choose the document to review. To view comments, go to https://www.regulations.gov/document/FMCSA-2025-0125-0002, then click “Browse Comments.” If you do not have access to the internet, you may view the docket online by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

II. Background

On July 1, 2025, FMCSA published a notice of application for exemption from the National Propane Gas Association (NPGA) with a comment deadline of July 31, 2025 (90 FR 28854). NPGA requests a five-year exemption for its member company drivers to waive the requirements of 49 CFR 395.3 with prior notice to FMCSA, each year between the period of December 15 and March 15, when the need for propane as heating fuel is most urgent.

On July 15, 2025, the New York State Department of Transportation asked the Agency to extend the comment period to August 29, 2025. The New York State Department of Transportation expressed concern that exemptions from safety and hazardous materials regulations have the potential to undermine safety and complicate the enforcement process, and the application requires extensive review. FMCSA believes it is appropriate to extend the July 31, 2025, deadline to provide interested parties additional time to submit comments to the docket. Therefore, FMCSA extends the comment period for all comments until August 15, 2025.

Larry W. Minor,
Associate Administrator of Policy.

[FR Doc. 2025-14187 Filed 7-25-25; 8:45 am]

BILLING CODE 4910-EX-P